FEDERAL COMMUNICATIONS COMMISSION

47 CFR Part 64

[CG Docket No. 03-123; WC Docket No. 05-196; FCC 08-275]

Telecommunications Relay Services, Speech-to-Speech Services, E911 Requirements for IP-Enabled Service Providers

AGENCY: Federal Communications Commission

ACTION: Final rule; announcement of effective date.

SUMMARY: In this document, the Commission announces that the Office of Management and Budget (OMB) has approved, for a period of three years, the information collection requirements associated with the Commission's Telecommunications Relay Services, Speech-to-Speech Services, E911 Requirements for IP-Enabled Service Providers, Report Order and Order on Reconsideration (Second Report and Order). This document is consistent with the Second Report and Order, which stated that the Commission would publish a document in the Federal Register announcing the effective date of the revised rules.

DATES: The rules published at 73 FR 79683, December 30, 2008, are effective May 28, 2010.

FOR FURTHER INFORMATION CONTACT: Gregory Hlibok, Disability Rights Office, Consumer and Governmental Affairs Bureau, at (202) 559-5158 (voice) or (202) 418-0431(TTY), or email: Gregory.Hlibok@fcc.gov.

SUPPLEMENTARY INFORMATION: This document announces that, on November 23, 2009, OMB approved, for a period of three years, the information collection requirements contained in the Commission's Second Report and Order and in the Commission's rules at 47 CFR 64.605, FCC 08-275, published at 73 FR 79683, December 30, 2008. The OMB Control Number is 3060-1089. The Commission publishes this document as an announcement of the effective date of the revised rules. If you have any comments on the burden estimates listed below, or how the Commission can improve the collections and reduce any burdens caused thereby, please contact Cathy Williams, Federal Communications Commission, Room 1-C823, 445 12th Street, SW, Washington, DC 20554. Please include the OMB Control Number, 3060-1089, in your correspondence. The Commission will also accept your comments via the Internet if you send them to PRA@fcc.gov and Cathy.Williams@fcc.gov.

To request materials in accessible formats for people with disabilities (Braille, large print, electronic files, audio format), send an e-mail to fcc504@fcc.gov or call the Consumer and Governmental Affairs Bureau at (202) 418-0530 (voice), (202) 418-0432 (TTY).

SYNOPSIS

As required by the Paperwork Reduction Act of 1995 (44 U.S.C. 3507), the FCC is notifying the public that it received OMB approval on November 23, 2009, for the information collection requirements contained in the Commission's Second Report and Order and the Commission's rules at 47 CFR 64.605. The OMB Control Number is 3060-1089. The total annual reporting burden for respondents for these collections of information, including the time for gathering and maintaining the collection of information, is estimated to be: 12 respondents, 5,608,692 responses, total annual burden hours of 206,061 hours, and $4,251,635 in total annual costs.

Under 5 CFR 1320, an agency may not conduct or sponsor a collection of information unless it displays a current, valid OMB Control Number.

No person shall be subject to any penalty for failing to comply with a collection of information subject to the Paperwork Reduction Act that does not display a current valid OMB Control Number.

The foregoing document is required by the Paperwork Reduction Act of 1995, Public Law 104-13, October 1, 1995, and 44 U.S.C. 3507.

Federal Communications Commission.
Marlene H. Dortch,
Secretary,
Office of the Secretary,
Office of Managing Director.

[FR Doc. 2010-12810 Filed 5-27-10; 8:45 am]

BILLING CODE 6712-01-S